DEPARTMENT OF JUSTICE

[OMB Number 1140-0099]

Agency Information Collection Activities; Proposed eCollection eComments Requested; Extension of a Previously Approved Collection; ATF Adjunct Instructor Data Form

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until August 11, 2023.

FOR FURTHER INFORMATION CONTACT: If you have additional comments, especially on the estimated public burden or associated response time, suggestions, or need a copy of the proposed information collection instrument with instructions or additional information, please contact: Elaine Wilson Harrison (ATF), Training and Accreditation Branch, either by mail at Building 681, 1131 Chapel Crossing Rd., Brunswick, GA 31520, email at elaine.wilson@atf.gov, or telephone at 912-258-6445.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: ATF uses the adjunct instructor data form to collect information from prospective non-ATF instructors. Prospects may be from other Federal, State, and Local agencies as well as educational institutions—colleges, universities and privately owned businesses.

Overview of This Information Collection

1. Type of Information Collection: Extension of a previously approved collection.

2. The Title of the Form/Collection: ATF Adjunct Instructor Data Form.

3. The agency form number, if any, and the applicable component of the Department sponsoring the collection:

Form number: ATF Form 6140.3.

Component: Training and Accreditation Branch.

4. Affected public who will be asked or required to respond, as well as the obligation to respond: Affected Public: Individuals or households, Business or other for-profit, Not-for-profit institutions, and State, Local or Tribal Government. The obligation to respond is required to obtain/retain a benefit.

5. An estimate of the total number of respondents and the amount of time estimated for an average respondent to respond: An estimated 20 respondents will utilize the form annually, and it will take each respondent approximately 30 minutes to complete their responses.

6. An estimate of the total annual burden (in hours) associated with the collection: The estimated annual public burden associated with this collection is 10 hours, which is equal to 20 (total respondents) * 1 (# of response per respondent) * .5 (30 minutes).

7. An estimate of the total annual cost burden associated with the collection, if applicable: $0.

Total Burden Hours
Activity | Number of respondents | Frequency | Total annual responses | Time per response (minutes) | Total annual burden (hours)
ATF Form 6140.3 | 20 | 1 | 20 | 30 | 10

If additional information is required contact: John R. Carlson, Department Clearance Officer, United States Department of Justice, Justice Management Division, Policy and Planning Staff, Two Constitution Square, 145 N Street NE, 4W-218, Washington, DC.

Dated: June 6, 2023.
John Carlson,
Department Clearance Officer for PRA, U.S. Department of Justice.

[FR Doc. 2023-12399 Filed 6-9-23; 8:45 am]

BILLING CODE 4410-FY-P